DEPARTMENT OF AGRICULTURE

Agricultural Marketing Service

[Doc. No. AMS-FGIS-25-0221]

2025/2026 Rates for Grain Inspection and Weighing Services Under the United States Grain Standards Act

AGENCY: Agricultural Marketing Service, USDA.

ACTION: Notice.

SUMMARY: The Agricultural Marketing Service (AMS or the Agency) is announcing the 2025/2026 rates it will charge for official grain inspection and weighing services, supervision of official grain inspection and weighing services, and miscellaneous fees for other services performed under the United States Grain Standards Act (USGSA), as amended. This action publishes the resulting fees from the annual review of fees. The 2025/2026 hourly, unit, and tonnage rates will be applied at the beginning of the fiscal year. This action establishes the rates for user-funded services based on costs incurred by AMS. This year, cost-based analyses indicated the need to increase certain user fee rates when current rates are insufficient to cover the costs of providing the service. While cost-saving measures have and will continue to be implemented, user fee rate increases are necessary to offset rising operational costs and rebuild the user fee reserve. Prospective customers can find the fee schedule posted on the Agency's public website: https://www.ams.usda.gov/about-ams/fgis-program-directives.

DATES: Applicable October 1, 2025.

FOR FURTHER INFORMATION CONTACT: Anthony Goodeman, Senior Policy Advisor, USDA AMS; telephone: 202-720-0291, or email: anthony.t.goodeman@usda.gov.

SUPPLEMENTARY INFORMATION: The USGSA provides the Secretary of Agriculture with the authority to charge and collect reasonable fees to cover the costs of performing official services, as well as those associated with managing the program. The USGSA also mandates that the Secretary must maintain an operating reserve of three- to six-months of expenses and adjust fees no less frequently than annually to maintain those reserves. The grain inspection regulations stipulate how the Federal Grain Inspection Service (FGIS) conducts annual fee reviews of Direct Service and Supervision fees (7 CFR 800.71).

On January 6, 2025, FGIS published in the Federal Register a final rule that established standardized formulas for calculating the fees charged by FGIS user-funded programs (90 FR 531). On the basis of rates calculated using these formulas, FGIS determines the fee rates necessary to sustain program services, then publishes a Federal Register notice announcing the rates for its user-funded programs.

This notice announces the 2025/2026 fee rates for grain inspection and weighing services on a per-hour rate, unit fee, and tonnage fee. Fee rates will be effective at the beginning of the fiscal year.

Rates reflect direct and indirect costs of providing services. Direct costs include the cost of salaries, employee benefits, and, if applicable, travel and some operating costs. Indirect or overhead costs include the cost of Program and Agency activities supporting the services provided to the industry. The formula used to calculate these rates also includes operating reserve, which may add to or draw upon the existing operating reserves.

These services include the inspection, weighing, and/or certification of quality factors in accordance with established U.S. Grain Standards or other specifications. The quality grades and official weights serve as a basis for market prices and reflect the value of grain to producers, consumers, handlers, exporters, and foreign buyers. FGIS' grading and certification services include both mandatory and voluntary services paid for by the users on a fee-for-service basis. The grain industry can use these tools to promote and communicate the quality of grain to domestic and foreign buyers and to maintain compliance with USGSA requirements. FGIS is required by statute to recover the costs associated with these services and to maintain a three- to six-month operating reserve.

2025/2026 Rate Calculations

Hourly and Unit Fees

FGIS calculated the rate for services, per hour per program employee, using the following formulas (a per-unit base is included for charges for services on a per-unit basis; the specific amounts in each rate calculation are available upon request from FGIS):

(1) Regular rate. The total direct pay of program personnel performing grading, weighing, laboratory services, and equipment testing divided by the total direct hours for the previous year, which is then multiplied by the next year's percentage cost-of-living increase, plus the benefits rate, plus the operating rate, plus the allowance for bad debt rate. If applicable, travel expenses will be added to the cost of providing the service through the operating rate or the travel will be billed separately.

(2) Overtime rate. The total direct pay of program personnel performing grading, weighing, laboratory services, and equipment testing divided by the total direct hours for the previous year, which is then multiplied by the next year's percentage cost-of-living increase and then multiplied by 1.5, plus the benefits rate, plus the operating rate, plus the allowance for bad debt rate. If applicable, travel expenses will be added to the cost of providing the service through the operating rate or the travel will be billed separately.

(3) Holiday rate. The total direct pay of program personnel performing grading, weighing, laboratory services, and equipment testing divided by the total direct hours for the previous year, which is then multiplied by the next year's percentage cost-of-living increase and then multiplied by 2, plus the benefits rate, plus the operating rate, plus the allowance for bad debt rate. If applicable, travel expenses will be added to the cost of providing the service through the operating rate or the travel will be billed separately.

Overview of Direct Service Tonnage Fee Calculations

The USGSA and its implementing regulations (7 CFR 800.71(b)(1)(i) and (ii)) require that annual tonnage rates are adjusted annually, and that the rates should be based on the prior year's costs, divided by the five-year rolling average of tonnage volumes. To comply with this requirement, FGIS conducts an annual review of its tonnage fees.

Tonnage for the 5-year rolling average was calculated on the previous 5 fiscal years (2020, 2021, 2022, 2023, and 2024). Tonnage fees consist of the National tonnage fee and local tonnage fee and are calculated and rounded to the nearest $0.001 per metric ton. The specific amounts in each rate calculation are available upon request from FGIS.

Calculation of National tonnage fee. The National tonnage fee is the National program administrative costs for the previous fiscal year divided by the average yearly tons of export grain officially inspected and/or weighed by delegated States and designated agencies, excluding land carrier shipments to Canada and Mexico, and outbound grain officially inspected and/or weighed by FGIS during the previous 5 fiscal years.

The 2025 National tonnage fee is $0.060 per metric ton. The calculation of this fee is based on FY24 National administrative costs of $6,906,002, divided by the 5-year rolling tonnage average of 115,262,834 metric tons.

Calculation of local tonnage fee. The local tonnage fee is the field office administrative costs for the previous fiscal year divided by the average yearly tons of outbound grain officially inspected and/or weighed by FGIS field offices during the previous 5 fiscal years.

2025/26 Grain Inspection and Weighing Direct Service Fees, Effective October 1, 2025

Table 1—Fees for Official Services Performed at an Applicant's Facility in an Onsite FGIS Laboratory ¹
Service | Regular rate Monday- Friday (6 a.m.-6 p.m.) | Night differential Monday- Friday (6 p.m.-6 a.m.) | Overtime rate Sunday and Saturday | Holiday rate
Inspection and Weighing Services Hourly Fees (per service representative)
One-Year Contract (per hour per Service representative) | $70.00 | $77.00 | $87.00 | $104.00
Noncontract (per hour per Service representative) | 100.00 |  | 125.00 | 150.00
Additional Tests (cost per test, assessed in addition to the hourly rate) ²
Service | 2025/26 Rate
Aflatoxin (rapid test kit method) | $17.90
All other Mycotoxins (rapid test kit method) | 32.60
NIR or NMR Analysis (protein, oil, starch, etc.) | 4.30
Waxy corn (per test) | 4.30
Class Y Weighing—online (per carrier) | 2.80
Fees for other tests not listed above will be based on the noncontract hourly rate from Table 1 (per hour/per representative)
Tonnage Fee (assessed in addition to all other applicable fees, only one tonnage fee will be assessed when inspection and weighing services are performed on the same carrier):
All Outbound Carriers Serviced by the Specific Field Office (per-metric ton) ³
Delegated States/Designated Agencies (National $0.060) ⁴ | 0.060
League City tonnage fee (local $0.094 plus National $0.060) | 0.154
New Orleans tonnage fee (local $0.025 plus National $0.060) | 0.085
Pacific Northwest tonnage fee (local $0.045 plus National $0.060) | 0.105
Toledo tonnage fee (local $0.287 plus National $0.060) | 0.347
¹ Fees apply to original inspection and weighing, re-inspection, and appeal inspection service and include, but are not limited to, sampling, grading, weighing, prior to loading stowage examinations, and certifying results performed within 25 miles of an employee's assigned duty station. Travel and related expenses will be charged for service outside 25 miles as found in § 800.72(a).
² Appeal and re-inspection services will be assessed the same fee as the original inspection service.
³ Standard carrier capacity for trucks/submitted samples—52,800 lbs. (approx. 23.95 metric tons (mt)), container—54,000 lbs. (approx. 24.49 mt), rail—220,000 lbs. (approx. 99.79 mt), barge—3,648,000 lbs. (approx. 1,654.70 mt), Pacific Northwest (PN) barge—6,707,000 lbs. (approx. 3,042.24 mt).
⁴ Tonnage fee is assessed on export grain inspected and/or weighed, excluding land carrier shipments to Canada and Mexico.

Table 2—Services Performed at Other Than an Applicant's Facility in an FGIS Laboratory ¹ ²
Original Inspection and Weighing (Class X) Services
Sampling only (use hourly rates from Table 1)
Stationary Lots (sampling, grade/factor, and checkloading)
Service | 2025/26 Rate
Truck/trailer/container (per carrier) | $35.00
Railcar (per carrier) | 51.90
Sacked grain (per hour per service representative plus an administrative fee per hundred weight) | 0.125/CWT
Lots Sampled Online During Loading (sampling use hourly rates from Table 1, plus)
Truck/trailer/container (per carrier) | 21.30
Railcar (per carrier) | 43.90
Sacked grain (per hour per service representative plus an administrative fee per hundred weight) | 0.125/CWT
Other Services
Submitted sample (per sample—grade and factor) | 21.30
Factor only (per factor—maximum 2 factors) | 10.40
Class X Weighing will be based on the noncontract hourly rate from Table 1 (per hour/per service representative)
Additional Tests (excludes sampling)
Aflatoxin (rapid test kit method) | 52.50
All other Mycotoxins (rapid test kit method) | 67.60
Fecal Matter Assay—Detection of Fecal Matter (Qualitative) | 326.55
NIR or NMR Analysis (protein, oil, starch, etc.) | 17.90
Test Kit Evaluation (Monday-Friday) | 111.70
Tilletia controversa Kühn (TCK) spores testing (per sample) | 326.55
Waxy Corn (per test) | 17.90
Fees for other tests not listed above will be based on the noncontract hourly rate from Table 1
Pesticide Residue Testing
Routine Compounds (per hour per service representative) | 376.50
Non-routine Compounds (Subject to availability) (per hour per service representative) | 200.90
Original Inspection and Weighing (Class X) Services
Appeal Inspection and Review of Weighing Service ³
Sampling Service for Appeals Additional (hourly rates from Table 1)
Board appeal and Appeals (grade and factor) | 142.70
Factor only (per factor—max 2 factors) ⁴ | 75.10
Additional Tests (assessed in addition to all other applicable tests)
Aflatoxin (rapid test kit method) | 52.50
All other Mycotoxins (rapid test kit method) | 82.20
Mycotoxin (per test—HPLC) | 245.60
NIR or NMR Analysis (protein, oil, starch, etc.) | 31.10
Sunflower oil (per test) | 31.10
Fees for other tests not listed above will be based on the noncontract hourly rate from Table 1
Stowage Examination (service on request)
Ship (per stowage space)(minimum 5 spaces per ship) | 89.00
Subsequent ship examinations(same as original) (minimum 3 spaces per ship) | 89.00
Barge (per examination) | 71.30
All other carriers (per examination) | 28.20
¹ Fees apply to original inspection and weighing, re-inspection, and appeal inspection service and include, but are not limited to, sampling, grading, weighing, prior to loading stowage examinations, and certifying results performed within 25 miles of an employee's assigned duty station. Travel and related expenses will be charged for service outside 25 miles as found in § 800.72(a).
² In addition to a 2-hour minimum charge on Saturday, Sunday, and holidays, an additional charge will be assessed when the revenue from the services in Table 2, does not equal or exceed what would have been collected at the applicable hourly rate.
³ If, at the request of the Service, a file sample is located and forwarded by the Agency, the Agency may, upon request, be reimbursed at the rate of $3.50 per sample by the Service. (Invoice processed through appropriate payment method.)
⁴ Factor only appeal—In accordance with 800.135(b) Kind and Scope, an appeal inspection is limited to the kind and scope of the original or re-inspection service; in the case of factor-only inspections, the service is limited to a maximum of two factors with no grade assignment.

Table 3—Miscellaneous Services
Service | 2025/26 Rate
Grain grading seminars (per hour per service representative) ¹ | $120.00
Samples provided to interested parties (per sample) | 5.20
Extra copies of certificates and divided lots (per certificate) | 3.50
Special mailing (actual cost) | Actual cost
Travel (mileage, airfare, per diem, etc.) | Actual cost
Preparing certificates onsite or during other than normal business hours (use hourly rates from Table 2)
Special Weighing Services (per hour per service representative) ¹⁰
Scale testing and certification | 145.20
Evaluation of weighing and material handling systems | 145.20
NTEP prototype evaluation (other than Railroad Track Scales) | 145.20
NTEP prototype evaluation of Railroad Track Scales | 145.20
Use of FGIS railroad track scale test equipment per facility for each requested service | 870.70
Mass standards calibration and re-verification | 145.20
Special [weighing] projects | 145.20
¹ Regular business hours—Monday through Friday—service provided at other than regular business hours will be charged at 1½ times the applicable hourly rate (see § 800.0(b)(14) for definition of “business day”).

Overview of Supervision Fees (Fees for Supervision of Official Inspection and Weighing Services Performed by Delegated States and Designated Agencies in the United States)

The supervision tonnage fee for 2025/26 is $0.008 per ton. FGIS calculates the supervision tonnage fee using the prior year's actual costs and the 5-year average tonnage of domestic U.S. grain shipments inspected, weighed, or both, including land carrier shipments to Canada and Mexico.

Operating reserve adjustment. In order to maintain an operating reserve of not less than 3 and not more than 6 months, FGIS reviewed the value of the operating reserve at the end of FY2024 to ensure that an operating reserve of 6 months is maintained. The operating reserve adjustment is the difference between FY2024 ending reserves and the operating reserve threshold, which is equivalent to 6 months of supervisory costs. The operating reserve is less than the operating reserve threshold, and the adjustment is $398,289.

Supervision tonnage fee. FGIS adds the total prior year supervision costs and the operating reserve adjustment, then divides the result by the previous 5-year average tonnage. If the calculated fee is zero or a negative value, FGIS will suspend collection of supervision tonnage fees for the next calendar year. The calculation, based on FY2024 supervision costs of $1,363,509, is $1,363,509 plus the operating reserve adjustment of $398,289, which equals $1,761,798, divided by a 5-year average tonnage of 219,633,243 which equals $0.008 per ton.

Therefore, for 2025, FGIS will assess a supervision tonnage fee of $0.008 per ton on domestic shipments officially inspected and/or weighed, including land carrier shipments to Canada and Mexico, performed by delegated States and/or designated agencies on or after October 1, 2025. The specific amounts in each rate calculation are available upon request from FGIS. The Supervision fee will be published in FGIS Directive 9180.74 and on the Agency's public website.

Miscellaneous Fees for Other Services Calculations Under 7 CFR 800.71(d)

Registration certificates and renewals. FGIS calculates the application fee by multiplying the Direct Service non-contract hourly rate (Table 1) by a quantity of five. The resulting fee is expected to cover FGIS personnel costs to review applications, fee publication expenses, and administrative expenses. The Direct Service non-contract hourly rate is $100.00. Thus, the application fee for 2025/26 is $100.00 times 5, or $500.00. This fee will be published in FGIS Directive 9180.74 and on the Agency's public website.

Designation amendments. FGIS calculates the rate using the Federal Register publication rate for three columns, plus one hour of noncontract hourly rate from Table 1 of Direct Service Fees. The fee covers FGIS personnel costs, administrative expenses, and costs for publishing notices regarding the designation of official service providers in the Federal Register. The Federal Register publication rate is $151 per column, and the Direct Service non-contract hourly rate is $100.00. FGIS calculates the fee as $553.00 for 2025/26. This fee will be published in FGIS Directive 9180.74 and on the Agency's public website.

Authority: 7 U.S.C. 71-87k.

Erin Morris,
Administrator, Agricultural Marketing Service.

[FR Doc. 2025-15768 Filed 8-18-25; 8:45 am]

BILLING CODE P